DEPARTMENT OF THE INTERIOR

Bureau of Land Management

[(LLCA930000.L13400000.DS0000.21X) MO#450014117]

Notice of Availability of the Draft Desert Plan Amendment and Draft Environmental Impact Statement, California

AGENCY: Bureau of Land Management, Interior.

ACTION: Notice of availability.

SUMMARY: In accordance with the National Environmental Policy Act of 1969, as amended, the Bureau of Land Management (BLM) has prepared a Draft Land Use Plan Amendment (LUPA) and Draft Environmental Impact Statement (EIS), for an amendment to the California Desert Conservation Area (CDCA) Plan and the Bakersfield and Bishop Resource Management Plans (RMPs). The Desert Plan Amendment Draft LUPA/EIS includes consideration of changes to the management or modification to the boundaries of 129 Areas of Critical Environmental Concern (ACECs). By this notice, the BLM is announcing the availability of the Draft LUPA/EIS. In order to comply with Federal regulations, the BLM is also announcing a comment period on proposed changes to the ACECs within the planning area.

DATES: To ensure that comments will be considered, the BLM must receive written comments on the Draft LUPA/EIS within 90 days following the date the Environmental Protection Agency publishes its notice of the Draft LUPA/EIS in the Federal Register. The BLM will announce future meetings and any other public participation activities at least 15 days in advance through public notices, news releases, and/or mailings.

ADDRESSES: The Desert Plan Amendment Draft LUPA/EIS are available on the BLM ePlanning project website at https://go.usa.gov/x7hdj. Click the “Documents” link on the left side of the screen to find the electronic version of these materials. Hard copies of the Desert Plan Amendment Draft LUPA and Draft EIS are also available for public inspection at the following BLM locations:

California State Office, 2800 Cottage Way, Suite W-1623, Sacramento, CA 95825;

California Desert District Office, 22835 Calle San Juan De Los Lagos, Moreno Valley, CA 92553;

Barstow Field Office, 2601 Barstow Road, Barstow, CA 92311;

El Centro Field Office, 1661 S. 4th Street, El Centro, CA 92243;

Needles Field Office, 1303 S. Highway 95, Needles, CA 92363;

Ridgecrest Field Office, 300 S. Richmond Road, Ridgecrest, CA 93555;

Bakersfield Field Office, 3801 Pegasus Drive, Bakersfield, CA 93308; and

Bishop Field Office, 351 Pacu Lane, Suite 100, Bishop, CA 93514.

You may submit written comments related to the Desert Plan Amendment by either of the following methods:

• Website: https://go.usa.gov/x7hdj.

• Mail: Bureau of Land Management, California State Office, Attn: Desert Plan Amendment, 2800 Cottage Way, Suite W-1623, Sacramento, CA 95825.

FOR FURTHER INFORMATION CONTACT: Jeremiah Karuzas, Renewable Energy Program Manager, telephone: 916-978-4644, email: jkaruzas@blm.gov; address Bureau of Land Management, 2800 Cottage Way, W-1623, Sacramento, CA 95825. Persons who use a telecommunications device for the deaf (TDD) may call the Federal Relay Service (FRS) at 1-800-877-8339 to contact Mr. Karuzas during normal business hours. The FRS is available 24 hours a day, 7 days a week, to leave a message or question. You will receive a reply during normal business hours.

SUPPLEMENTARY INFORMATION: In September 2016, the BLM issued a Record of Decision (ROD) for the Desert Renewable Energy Conservation Plan (DRECP) LUPA, which amended the CDCA Plan, the Bishop RMP, and the Bakersfield RMP in the Mojave and Colorado/Sonoran Desert regions of southern California. The 2016 ROD was intended to address the streamlining of renewable energy development, conservation of desert resources, and to support multiple use and recreation on the nearly 11 million acres of BLM-managed public land in the planning area. In response to challenges that arose with the implementation of the 2016 DRECP LUPA, as well as in response to Executive Order 13783, Promoting Energy Independence and Economic Growth, and Executive Order 13821 on Streamlining and Expediting Requests to Locate Broadband Facilities in Rural America, the BLM published a Notice of Intent in the Federal Register on February 2, 2018 (83 FR 4921) initiating a 45-day public comment period. The BLM sought comments on:

• The potential impacts that land use designations contained in the amended Land Use Plans will have on commercial-scale renewable energy projects, including wind, solar and geothermal energy;

• ACECs that were designated, including where private lands lie within the external boundaries of such designations, as well as comments on increasing opportunities for increased renewable energy development, recreational and off-highway vehicle access, mining access, and grazing; and

• The impact that land-use designations, land-disturbance limits (“disturbance caps”), and visual-management classifications contained in the plans may have on the deployment of future communications infrastructure.

The BLM used public scoping comments to help identify planning issues to formulate alternatives and frame the scope of analysis in the Draft LUPA/EIS. Issues considered in the Draft LUPA/EIS are management actions associated with conservation areas, biological resources (including special status species), cultural resources, renewable energy, minerals, livestock grazing, visual resources, air resources, water resources, and recreation. The LUPA also considers decisions regarding ACECs, California Desert National Conservation Lands (CDNCL), and management of lands with wilderness characteristics. The Desert Plan Amendment Draft LUPA/EIS evaluates the No Action Alternative and two action alternatives (Alternatives 1 and 2). The BLM identifies Alternative 1 as the Preferred Alternative. This alternative, however, does not represent the final agency direction. After the public comment period closes, the BLM will prepare a Proposed LUPA, which may reflect changes or adjustments based on information received during public comment on the Draft LUPA/EIS, new information, or changes in BLM policies or priorities.

The No Action Alternative would retain the decisions specified in the 2016 ROD for the DRECP LUPA, as recently modified by Public Law 116-9. Alternative 1 would reduce the number of ACECs from 129 to 97 thus reducing the acreage of the ACECs by approximately 1.8 million acres; reduce the areas identified as CDNCL by approximately 2.2 million acres; and result in an additional 450,000 acres of General Public Lands (GPL). Alternative 1 would also modify or eliminate 68 Conservation Management Actions (CMAs), which would also change the manner in which disturbance caps are implemented, including elimination of disturbance caps in CDNCL, as well as allowing renewable energy development in Special Recreation Management Areas (SRMA).

Alternative 2 would reduce the number of ACECs to 100, and reduce the acreage of the ACECs by approximately 1.5 million acres; reduce the areas identified as CDNCL by approximately 2.1 million acres; and result in an additional approximate 274,000 acres of General Public Lands (GPL). Alternative 2 would also modify or eliminate the same 68 CMAs, which would also change the manner in which disturbance caps are implemented similar to Alternative 1 but Alternative 2 would retain the one percent disturbance cap for CDNCL. Alternative 2 CMAs would be modified to only allow renewable energy development in a SRMA where there is overlap with Development Focus Areas (DFAs). All other land use allocation decisions and CMAs from the 2016 ROD would be retained in both Alternative 1 and Alternative 2.

As a result of proposed CMA changes, the resource use limitations of the 129 ACECs within the planning area will also change. Therefore, pursuant to 43 CFR 1610.7-2(b), this notice announces a concurrent public comment period on proposed management changes (including alteration or elimination of disturbance caps), and boundary modifications or elimination of the existing ACECs as identified in Table 1.

Table 1—ACECs Proposed for Boundary Modification or Elimination
ACEC name | No action acres | Alternative 1 acres | Alternative 2 acres
Afton Canyon | 8,800 | 8,800 | 8,800
Alligator Rock | 6,800 | 6,200 | 6,200
Amargosa North | 114,000 | 72,760 | 72,760
Amargosa South | 148,410 | 134,410 | 134,410
Amboy Crater | 640 | 640 | 640
Avawatz Mountains WSA | 49,900 | 0 | 0
Ayers Rock | 1,500 | 1,500 | 1,500
Barstow Woolly Sunflower | 19,100 | 19,100 | 19,100
Bedrock Spring | 440 | 0 | 0
Bendire's Thrasher | 9,800 | 9,800 | 9,800
Big Morongo Canyon | 25,000 | 24,600 | 24,600
Big Rock Creek Wash | 310 | 310 | 310
Bigelow Cholla | 4,200 | 4,200 | 4,200
Black Mountain | 51,300 | 0 | 0
Brisbane Valley Monkey Flower | 11,700 | 11,700 | 11,700
Bristol | 213,600 | 116,400 | 116,400
Cadiz Valley | 191,200 | 67,600 | 67,600
Cady Mountains WSA | 101,400 | 0 | 101,400
Calico Early Man Site | 840 | 840 | 840
Carbonate Endemic Plants RNA | 5,000 | 5,000 | 5,000
Castle Mountain | 3,180 | 0 | 0
Cerro Gordo | 10,400 | 9,700 | 9,700
Cerro Gordo WSA | 630 | 0 | 0
Chemehuevi | 864,200 | 578,600 | 578,600
Chuckwalla | 512,300 | 319,400 | 319,400
Chuckwalla to Chemehuevi tortoise linkage | 318,600 | 269,900 | 269,900
Chuckwalla Valley Dune Thicket | 2,200 | 2,200 | 2,200
Coachella Valley Fringe-toed Lizard | 10,300 | 10,300 | 10,300
Conglomerate Mesa | 1,700 | 1,700 | 1,700
Coolgardie Mesa | 9,800 | 9,800 | 9,800
Corn Springs | 2,500 | 900 | 900
Coyote Mountains Fossil Site | 5,900 | 5,900 | 5,900
Cronese Basin | 8,500 | 0 | 0
Dagget Ridge Monkey Flower | 26,100 | 26,100 | 26,100
Dead Mountains | 27,200 | 0 | 0
Death Valley 17 WSA | 20,600 | 0 | 0
Denning Springs | 390 | 0 | 0
Desert Lily Preserve | 2,100 | 2,100 | 2,100
Desert Tortoise Research Natural Area | 22,200 | 22,200 | 22,200
Dos Palmas | 8,600 | 8,600 | 8,600
Eagles Flyway | 10,900 | 0 | 0
East Mesa | 88,500 | 38,200 | 88,500
El Paso to Golden | 57,800 | 57,800 | 57,800
Fossil Falls | 1,700 | 1,700 | 1,700
Fremont-Kramer | 236,000 | 236,000 | 236,000
Granite Mountain Corridor | 39,300 | 0 | 34,500
Great Falls Basin | 10,300 | 0 | 0
Halloran Wash | 1,700 | 1,700 | 1,700
Harper Dry Lake | 490 | 490 | 490
Horse Canyon | 1,500 | 1,500 | 1,500
Independence Creek WSA | 6,500 | 0 | 0
Indian Pass | 1,900 | 1,900 | 1,900
Ivanpah | 78,600 | 63,900 | 78,600
Jawbone/Butterbredt | 145,700 | 114,900 | 114,900
Juniper Flats | 2,400 | 2,400 | 2,400
Kingston Range | 18,900 | 15,200 | 15,200
Kingston Range WSA | 40,000 | 0 | 0
Lake Cahuilla | 8,600 | 8,600 | 8,600
Lake Cahuilla Shoreline | 11,900 | 11,900 | 11,900
Last Chance Canyon | 5,100 | 3,500 | 3,500
Manix | 2,900 | 2,900 | 2,900
Manzanar | 540 | 540 | 540
Marble Mountain Fossil Bed | 230 | 0 | 0
McCoy Valley | 26,200 | 26,200 | 26,200
McCoy Wash | 6,400 | 6,400 | 6,400
Mesquite Hills/Crucero | 5,000 | 5,000 | 5,000
Mesquite Lake | 6,800 | 6,800 | 6,800
Middle Knob | 17,800 | 17,800 | 17,800
Mohave Ground Squirrel | 165,200 | 170,800 | 170,800
Mojave Fishhook Cactus | 637 | 635 | 635
Mojave Fringe-toed Lizard | 22,500 | 11,500 | 11,500
Mopah Spring | 1,900 | 0 | 0
Mountain Pass Dinosaur Trackway | 630 | 630 | 630
Mule McCoy Linkage | 51,200 | 51,200 | 51,200
Mule Mountains | 4,100 | 4,100 | 4,100
Northern Lucerne Wildlife Linkage | 21,900 | 21,900 | 21,900
Ocotillo | 14,600 | 14,600 | 14,600
Olancha Greasewood | 25,600 | 19,500 | 19,500
Old Woman Springs Wildlife Linkage | 55,600 | 43,200 | 55,600
Ord-Rodman | 195,300 | 140,700 | 140,700
Owens Lake | 10,200 | 10,200 | 10,200
Palen Dry Lake | 3,600 | 3,600 | 3,600
Palen Ford | 41,400 | 25,600 | 41,400
Panamint Lake | 21,700 | 0 | 0
Panamints and Argus | 102,900 | 71,500 | 71,500
Parish's Phacelia | 560 | 560 | 560
Patton Military Camps | 16,400 | 21,100 | 21,100
Picacho | 183,500 | 133,600 | 133,600
Pilot Knob | 860 | 860 | 860
Pinto Mountains | 108,200 | 84,200 | 84,200
Pipes Canyon | 8,700 | 4,600 | 4,600
Pisgah | 46,600 | 46,600 | 46,600
Piute-Fenner | 155,500 | 146,200 | 146,200
Plank Road | 420 | 420 | 420
Rainbow Basin/Owl Canyon | 4,100 | 4,100 | 4,100
Red Mountain Spring | 700 | 700 | 700
Rodman Mountains Cultural Area | 6,200 | 0 | 0
Rose Spring | 840 | 840 | 840
Saline Valley | 1,400 | 0 | 0
Salt Creek Hills | 2,200 | 1,600 | 1,600
Salton Sea Hazardous ACEC | 5,100 | 5,100 | 5,100
San Sebastian Marsh/San Felipe Creek | 6,600 | 6,600 | 6,600
Sand Canyon | 2,600 | 0 | 0
Santos Manuel | 27,500 | 0 | 0
Shadow Valley | 197,300 | 159,700 | 159,700
Short Canyon | 750 | 0 | 0
Sierra Canyons | 26,300 | 27,000 | 27,000
Singer Geoglyphs | 2,000 | 2,000 | 2,000
Soda Mountains Expansion | 16,700 | 0 | 0
Soda Mountains WSA | 88,800 | 0 | 0
Soda Mountains | 0 | 0 | 33,300
Soggy Dry Lake Creosote Rings | 180 | 180 | 180
Southern Inyo WSA | 2,700 | 0 | 0
Steam Well | 40 | 0 | 0
Superior-Cronese | 315,800 | 310,900 | 310,900
Surprise Canyon | 4,600 | 0 | 0
Symmes Creek WSA | 8,400 | 0 | 0
Trona Pinnacles | 4,100 | 4,100 | 4,100
Turtle Mountains | 50,400 | 0 | 0
Upper Johnson Valley Yucca Rings | 330 | 330 | 330
Upper McCoy | 37,400 | 37,400 | 37,400
Warm Sulfur Springs | 350 | 350 | 350
West Mesa | 82,500 | 18,700 | 82,500
West Paradise | 240 | 0 | 0
Western Rand Mountains | 30,400 | 30,400 | 30,400
Whipple Mountains | 2,800 | 2,100 | 2,100
White Mountain City | 820 | 820 | 820
White Mountains WSA | 1,600 | 0 | 0
Whitewater Canyon | 14,900 | 2,800 | 2,800
Yuha Basin | 77,300 | 73,600 | 73,600

A more detailed description of all proposed ACEC modifications, including maps, is included in the Draft LUPA/EIS and Appendix B of the Draft LUPA/EIS.

The BLM will utilize and coordinate the NEPA process to help fulfill the public involvement process under the National Historic Preservation Act (54 U.S.C. 306108), as provided in 36 CFR 800.2(d)(3). The BLM will continue to consult with Indian tribes on a government-to-government basis, in accordance with Executive Order 13175 and other policies. Tribal concerns, including impacts on Indian trust assets and potential impacts to cultural resources, will continue to be given due consideration. Federal, State, and local agencies, along with tribes and other stakeholders that may be interested in or affected by the proposed action that the BLM is evaluating, are invited to participate in the comment period.

Please note that public comments and information submitted, including names, street addresses, and email addresses of persons who submit comments, will be available for public review and disclosure at the BLM California State Office (see ADDRESSES) during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Karen E. Mouritsen,
State Director, California.

[FR Doc. 2021-00579 Filed 1-13-21; 8:45 am]

BILLING CODE 4310-40-P